DEPARTMENT OF DEFENSE

Office of the Secretary

[Docket ID: DoD-2023-OS-0053]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 23, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Department of Defense Consent to Conduct Installation Records Check (IRC); DD Form 3058; OMB Control Number 0704-0586.

Type of Request: Extension.

Number of Respondents: 14,000.

Responses per Respondent: 1.

Annual Responses: 14,000.

Average Burden per Response: 10 minutes.

Annual Burden Hours: 2,333.

Needs and Uses: The information collection is required under authority of DoDI 1402.05 Criminal History Background Checks on Individuals in Child Care Services Programs and is used to determine an individual's suitability or fitness for working with children. The information collection requirement is necessary to obtain information pertinent to the criminal history background investigation and suitability determination of individuals working with children in DoD child care programs.

Individuals who are interested in working for DoD or for a program operated by or through a contract with the DoD must complete the form prior to working with children under the age of 18 years. DoD programs and services that use this form include but are not limited to: Child Protective Services (CPS) (including the investigation of child abuse and neglect reports), faith-based (religious) programs, Social Services Programs, Health and Mental Health Care Programs, to include Physicians, Dentists, Nurse Practitioners, Technicians; Childcare, Education Programs (whether or not directly involved in teaching), Foster Care, Residential care, Recreational or Rehabilitative programs, and Detention, Correctional, and Treatment services. The types of individuals screened include civilian applicants and employees, military members, contractors, family child care/home day care providers and their family members, and volunteers.

Affected Public: Business or other for-profit; individuals or households.

Frequency: Every five years.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 18, 2023.
Aaron T. Siegel,
Alternate OSD Federal Register Liaison Officer, Department of Defense.

[FR Doc. 2023-20603 Filed 9-21-23; 8:45 am]

BILLING CODE 5001-06-P